DEPARTMENT OF HEALTH AND HUMAN SERVICES

Substance Abuse and Mental Health Services Administration

Announcement of Requirements and Registration for the “Technology-based Products to Prevent High-Risk Drinking Among College Students Challenge”

AGENCY: Substance Abuse and Mental Health Services Administration, HHS.

ACTION: Notice.

SUMMARY: The Substance Abuse and Mental Health Services Administration (SAMHSA), an operating division of the U.S. Department of Health and Human Services, announces a new opportunity for individuals and organizations to help prevent high-risk drinking among college students. Excessive and underage drinking among college students are significant public health problems on college and university campuses across the United States, which often result in life-altering consequences such as death, injury, assault, sexual abuse, unintended pregnancy, sexually transmitted diseases, academic difficulties, suicide attempts, and alcohol dependence. This challenge seeks technology-based products to decrease the acceptability of and engagement in high-risk drinking among college students. SAMHSA is seeking solutions to this problem through cost-effective, portable, technology-based products that effectively reach a diverse population of college students and their parents, as well as administrators, faculty, and staff, and that can be adapted to meet the local needs of these institutions throughout the United States. Technology-based products may include, but are not limited to, web applications, mobile apps, short message services (SMS), and podcasts.

This challenge aligns with SAMHSA's mission to reduce the impact of substance abuse and mental illness on America's communities. SAMHSA recognizes that preventing high-risk drinking among college students will save lives, improve academic success, and decrease other risks to students' health and safety.

The statutory authority for this challenge competition is Section 105 of the America Creating Opportunities to Meaningfully Promote Excellence in Technology, Education, and Science Reauthorization Act of 2010 (COMPETES Act).

DATES:

• Submission period begins: May 24, 2013.

• Submission period ends: July 8, 2013.

• Winners are expected to be announced on or about September 13, 2013.

FOR FURTHER INFORMATION CONTACT: Richard Lucey, Jr., Special Assistant to the Director, SAMHSA/Center for Substance Abuse Prevention, 1 Choke Cherry Road, Room 4-1049, Rockville, MD 20857. Phone: (240) 276-2603. Email: richard.lucey@samhsa.hhs.gov.

SUPPLEMENTARY INFORMATION:

Subject of Challenge Competition

This Challenge is a call for developers, substance abuse prevention practitioners, and others to develop technology-based products to prevent high-risk drinking among college students. For the purpose of this Challenge, high-risk drinking is defined as those situations that may involve but not be limited to: binge drinking (commonly defined as five or more drinks on any one occasion for males, four or more drinks for females); underage drinking; drinking and driving; situations when one's condition is already impaired by another cause, such as depression or emotional stress; and combining alcohol and medications, such as tranquilizers, sedatives, and antihistamines.

Each entrant shall submit a written proposal (maximum of 20 double-spaced pages, not including appendices, and hereafter referred to as Submission) that describes the product's design, performance, and developer's qualifications (for more detailed information, read the section titled “Basis upon Which Winners Will Be Selected”). Up to five finalists will advance to the final product evaluation phase, during which time those entrants will participate in a proof-of-concept meeting with federal staff to discuss and demonstrate their technology-based product.

Eligibility Rules for Participation in the Competition: To be eligible to win a prize under this challenge, an entrant:

1. Shall register to participate in the competition under the rules promulgated by SAMHSA;

2. Shall comply with all requirements under this section;

3. In the case of a private entity, shall be incorporated in and maintain a primary place of business in the United States, and in the case of an individual, whether participating singly or in a group, must be a citizen or permanent resident of the United States;

4. May not be a federal entity or federal employee acting within the scope of their employment;

5. May not be a federal employee working on their application or submission during assigned duty hours;

6. May not be an employee of SAMHSA;

7. Federal grantees may not use federal funds to develop COMPETES Act challenge applications unless consistent with the purpose of their grant award; and

8. Federal contractors may not use federal funds from a contract to develop COMPETES Act challenge applications or to fund efforts in support of a COMPETES Act challenge submission.

An entrant will not be deemed ineligible because the individual or entity used federal facilities or consulted with federal employees during a competition if the facilities and employees are made available to all entrants participating in the competition on an equitable basis.

Registration Process for Participants: To register for this Challenge, entrants must visit the www.challenge.gov Web site and search for “Technology-based Products to Reduce High-Risk Drinking among College Students Challenge.” A registration link for the Challenge can be found on the landing page under the challenge description.

Amount of the Prizes

Total: $100,000 in prizes: $60,000 for first place, $30,000 for second place, and $10,000 for third place. Awards may be subject to federal income taxes and HHS will comply with IRS withholding and reporting requirements, where applicable.

Basis Upon Which Finalists Will Be Selected: (100 points possible)

Each Submission will be assigned to a three-person panel of objective reviewers from within the federal government who will evaluate and score the technology-based product proposal according to the selection criteria below. Each Submission will receive a score from 0 to 100 depending how well it addresses and responds to the requirements of the following selection criteria:

• Quality of the Product Design (50 points maximum): detailed description of the product, including instructions on how to install and operate it, and system requirements to run it (10 points); description of the connection between the product and a reduction in high-risk drinking among college students (20 points); description of the evidence base for the product's design; description of the product's development plan, including any testing conducted with potential end users (5 points); description of the prevention-related information that targeted populations can use to decrease high-risk drinking among college students (10 points); and description of which platforms the technology-based product can be accessible through (5 points).

• Quality of Product Performance (40 points maximum): description of how the product can garner high engagement among college students; campus faculty, staff, and administrators; and parents of college students (10 points); description of how the product can be adopted and used by colleges and universities using their existing communication systems (20 points); and description of how the product can be updated and maintained (10 points).

• Quality of Project Personnel (10 points maximum): description of the applicant's relevant background and experience related to the product.

Based on the review panel's recommendation, each finalist will participate in a virtual or in-person meeting with federal staff to discuss their technology-based product and demonstrate its operation. The purpose of these meetings is to further evaluate the entrant's product, provide an additional source of information about each entrant's product to SAMHSA, and clarify any concerns or questions raised by the review panel.

For a Submission to be eligible to win this Challenge, it must meet the following requirements:

1. Acceptable platforms—The product must be designed for use with existing Web, mobile, voice, electronic health record, or other platform to support interactions with other capabilities.

2. Section 508 Compliance—Entrants must acknowledge, as a prerequisite to any subsequent acquisition by federal contract or other method, they may be required to make their product compliant with Section 508 accessibility and usability requirements at their own expense. Any electronic information technology that is ultimately obtained by HHS for its use, development, or maintenance must meet Section 508 accessibility and usability standards. Past experience has demonstrated that it can be costly for solution-providers to “retrofit” solutions if remediation is later needed. The HHS Section 508 Evaluation Product Assessment Template, available at www.hhs.gov/od/vendors/index.html, provides a useful roadmap for developers to review. It is a simple, Web-based checklist utilized by HHS officials to allow vendors to document how their products do or do not meet the various Section 508 requirements.

3. No HHS or SAMHSA logo—The product must not use HHS's or SAMHSA's logos or official seals in the Submission and must not claim endorsement.

4. Functionality/Accuracy—A Submission may be disqualified if the product fails to function as proposed by the entrant, or if the product provides inaccurate or incomplete information.

5. Security—Submissions must be free of malware. Entrant agrees that SAMHSA may conduct testing on the product to determine whether malware or other security threats may be present.

Additional Information

General Conditions: SAMHSA reserves the right to cancel, suspend, and/or modify the Challenge, or any part of it, for any reason, at SAMHSA's sole discretion. Participation in this Challenge constitutes an entrant's full and unconditional agreement to abide by the Challenge's Official Rules found at www.challenge.gov. Privacy Policy: ChallengePost collects personal information from you when you register on Challenge.gov. The information collected is subject to the ChallengePost privacy policy located at www.challengepost.com/privacy. Ownership of intellectual property is determined by the following:

• Each entrant retains title and full ownership in and to their submission. Entrants expressly reserve all intellectual property rights not expressly granted under the Challenge agreement.

• By participating in this Challenge, each entrant hereby irrevocably grants to the federal government a limited, non-exclusive, royalty-free, worldwide license and right to reproduce, publicly perform, publicly display, and use the Submission to the extent necessary to administer the Challenge, and to publicly perform and publicly display the Submission, including, without limitation, for advertising and promotional purposes relating to the Challenge.

Authority: 15 U.S.C. 3719.

Summer King,
Statistician.

[FR Doc. 2013-12430 Filed 5-23-13; 8:45 am]

BILLING CODE 4162-20-P